DEPARTMENT OF HOUSING AND URBAN DEVELOPMENT

[Docket No. FR-7007-N-04]

60-Day Notice of Proposed Information Collection: 2019 American Housing Survey

AGENCY: Office of Policy Development and Research, HUD.

ACTION: Notice.

SUMMARY: The Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: November 13, 2018.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410-5000; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the proposed collection of information described in Section A.

A. Overview of Information Collection

Title of Information Collection: 2019 American Housing Survey.

OMB Approval Number: 2528-0017.

Type of Request: Revision.

Form Number: None.

Description of the need for the information and proposed use: The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Like the previous surveys, the 2019 AHS will collect “core” data on subjects, such as the amount and types of changes in the housing inventory, the physical condition of the housing inventory, the characteristics of the occupants, housing costs for owners and renters, the persons eligible for and beneficiaries of assisted housing, remodeling and repair frequency, reasons for moving, the number and characteristics of vacancies, and characteristics of resident's neighborhood. In addition to the “core” data, HUD plans to collect supplemental data on post-secondary education, modifications made to assist occupants living with disabilities, and information on people's concerns regarding the availability and affordability of food.

The AHS national longitudinal sample consists of approximately 85,200 housing units, and includes oversample from the largest 15 metropolitan areas, and approximately 5,200 HUD-assisted housing units. In addition to the national longitudinal sample, HUD plans to conduct 10 additional metropolitan area longitudinal samples, each with approximately 3,000 housing units (for a total 30,000 metropolitan area housing units). The 10 additional metropolitan area longitudinal samples were last surveyed in 2015.

To help reduce respondent burden on households in the longitudinal sample, the 2019 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

HUD needs the AHS data for two important uses.

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

In addition to the core 2019 AHS, HUD plans to collect supplemental data on housing insecurity in a follow-on survey to the AHS. Housing insecurity is defined as a significant lapse for a given household of one or more elements of secure housing. These elements include affordability, stable occupancy, and whether the housing is decent and safe. “Affordability” implies that shelter costs are manageable over the long term without severely burdening or compromising other consumption that normally is essential for health and well-being. The second element, “stable occupancy”, implies that the household does not face substantial risk of involuntary displacement for economic or non-economic reasons. The final element, “decent and safe”, implies that a unit has physical attributes that satisfy functional needs for well-being related to health, security, and support for activities of daily living. Such attributes include appropriate facilities for excluding external threats, providing climate control, storing and preparing food, maintaining physical and mental hygiene, and developing human potential. Not included are aspects of the neighborhood or environment that one encounters beyond the confines of the structure or property.

HUD plans to conduct the Housing Insecurity Follow-On survey concurrently with the 2019 AHS. Respondents who meet certain criteria based on their responses to the 2019 AHS will be recruited at the end of the production questionnaire and offered an incentive of $40 to participate. Of the respondents who agree to participate in the follow-on survey, a total of 4,000 responses will be collected via telephone. Once the follow-on interview has been completed, respondents will receive the incentive for their participation. Data collected from this follow-on survey will be used for research and scale development purposes.

HUD needs the AHS Housing Insecurity Follow-On data for two important uses. With the data:

1. HUD can evaluate the feasibility of collecting data on housing insecurity and better define housing insecurity.

2. HUD can measure the quality of the questions asked regarding housing insecurity and develop a composite housing insecurity scale.

Members of affected public: Households.

Estimated number of respondents: 119,200.

Estimated time per response: 38.8 minutes.

Frequency of response: One time every two years.

Estimated total annual burden hours: 77,800.

Estimated total annual cost: The only cost to respondents is that of their time. The total estimated cost is $66,800,000.

Respondent's obligation: Voluntary.

Legal authority: This survey is conducted under Title 12, U.S.C., Section 1701z-1 et seq.

B. Solicitation of Public Comment

This notice solicits comments from members of the public and affected parties concerning the collection of information described in Section A on the following:

1. Whether the proposed collection of information is necessary for the proper performance of the functions of the agency, including whether the information will have practical utility;

2. The accuracy of the agency's estimate of the burden of the proposed collection of information;

3. Ways to enhance the quality, utility, and clarity of the information to be collected; and

4. Ways to minimize the burden of the collection of information on those who are to respond; including the use of appropriate automated collection techniques or other forms of information technology, e.g., permitting electronic submission of responses.

HUD encourages interested parties to submit comment in response to these questions.

Authority: Section 3507 of the Paperwork Reduction Act of 1995, 44 U.S.C. Chapter 35.

Dated: August 30, 2018.
Todd M. Richardson,
General Deputy Assistant, Secretary for Policy Development and Research.

[FR Doc. 2018-19707 Filed 9-10-18; 8:45 am]

BILLING CODE 4210-67-P